DEPARTMENT OF JUSTICE

Antitrust Division

Notice Pursuant to the National Cooperative Research and Production Act of 1993—North America Outdoors, Inc.

Notice is hereby given that, on April 1, 2005, pursuant to section 6(a) of the National Cooperative Research and Production Act of 1993, 15 U.S.C. 4301 et seq. (“the Act”), North America Outdoors, Inc. (“AO”) has filed written notifications simultaneously with the Attorney General and the Federal Trade commission disclosing (1) the name and principal place of business of the standards development organization, and (2) the nature and scope of its standards development activities. The notifications were filed for the purpose of invoking the Act's provisions limiting the recovery of antitrust plaintiffs to actual damages under specified circumstances.

Pursuant to section 6(b) of the Act, the name and principal place of business of the standards development organization is: North America Outdoors, Inc., Knoxville, TN. The nature and scope of AO's standards development activities are: to provide an accreditation for risk management practices and procedures for companies providing outdoor recreation outfitting and guiding services to the public.

Dorothy B. Fountain,
Deputy Director of Operations Antitrust Division.

[FR Doc. 05-8251 Filed 4-25-05; 8:45 am]

BILLING CODE 4410-11-M